DEPARTMENT OF TRANSPORTATION

Maritime Administration

[Docket Number MARAD-2012-0015]

America's Marine Highway Draft Programmatic Environmental Assessment and Public Comment Period

AGENCY: Maritime Administration, Department of Transportation.

ACTION: Notice of availability, request for comments.

SUMMARY: The Maritime Administration (MARAD) has prepared a draft Programmatic Environmental Assessment (PEA) in compliance with the National Environmental Policy Act of 1969 to evaluate potential environmental impacts associated with the execution of the “America's Marine Highway” Program. The draft PEA identifies and assesses hypothetical scenarios associated with the operation of potential Marine Highway services in five distinct regions throughout the continental United States. Once finalized, the PEA will serve as a guidance document from which future site specific NEPA analyses can be initiated.

DATES: Comments must be received on or before August 13, 2014. MARAD will consider comments filed after this date to the extent practicable.

ADDRESSES: You may submit comments identified by DOT Docket Number MARAD-2012-0015 by any of the following methods:

• Federal eRulemaking Portal: http://www.regulations.gov. Search MARAD-2012-0015 and follow the instructions for submitting comments.

• Email Mr. Andrew Larimore at Rulemakings.MARAD@dot.gov. Include MARAD-2012-0015 in the subject line of the message.

• Mail or Hand Delivery: Docket Management Facility, U.S. Department of Transportation, 1200 New Jersey Avenue SE., West Building, Room W12-140, Washington, DC 20590, between 9 a.m. and 5 p.m., Monday through Friday, except on Federal holidays.

• Facsimile/Fax: (202) 493-2251.

Instructions: All submissions received must be written in English and include the agency name and docket number. All comments received will be posted without change to the docket at www.regulations.gov, including any personal information provided. For detailed instructions on submitting comments, see the section entitled Public Participation.

Note: If you mail or hand-deliver your comments, we recommend that you include your name and a mailing address, an email address, or a telephone number in the body of your document so that we can contact you if we have questions regarding your submission.

Docket: For access to the docket to read the PEA or comments received, go to http://www.regulations.gov at any time or to Room W12-401 of the Department of Transportation, 1200 New Jersey Avenue SE., Washington, DC, between 9 a.m. and 5 p.m., Monday through Friday, except Federal Holidays.

FOR FURTHER INFORMATION CONTACT: Daniel Yuska, Office of Environment, (202) 366-0714 or via email at Daniel.Yuska@dot.gov. Persons who use a telecommunications device for the deaf (TDD) may call the Federal Information Relay Service (FIRS) at 1-800-877-8339 to contact the above individual during business hours. The FIRS is available 24 hours a day, seven days a week, to leave a message or question. You will receive a reply during normal business hours. You may send mail to Mr. Yuska at Department of Transportation, Maritime Administration, Office of Environment, 1200 New Jersey Avenue SE., Washington, DC 20590-0001.

SUPPLEMENTARY INFORMATION: The Energy Independence and Security Act of 2007 (2007 Energy Act) directed the Secretary of Transportation to establish a “short sea” transportation program, and to designate short sea transportation routes and projects to be conducted under the program, for the purpose of mitigating landside congestion. Pursuant to the statutory mandate, in 2010, MARAD established the “America's Marine Highway” Program (the Program), designating criteria, eligibility requirements and information for applicants seeking to establish America's Marine Highway (AMH) routes and projects. Projects designated under the program must use U.S. documented vessels, transport passengers or freight (in containers or trailers) and must operate on a designated Marine Highway route. Section 405 of the Coast Guard and Maritime Transportation Act of 2012 expanded the geographic scope of the program to include routes between all U.S. ports, including U.S. ports with no contiguous landside connection, as well as routes between U.S. ports and ports in Canada located in the Great Lakes Saint Lawrence Seaway System. The Act also added the purpose of promoting the use of short sea transportation.

The Program itself does not develop or operate Marine Highway services. Rather, the program provides a set of tools for use by ports, state and local governments, and private industry to consider expansion of AMH services. Where such designations are made, MARAD may encourage development of particular AMH projects or services when funding is available.

MARAD has prepared a programmatic environmental assessment (PEA) to analyze the potential environmental impacts of performance of the AMH program. As a programmatic document, the PEA does not analyze the environmental impacts of specific AMH route or project designations or the establishment of specific AMH services. Such analyses can only be done in the context of specific proposals, with known ports, infrastructure, natural environments, transportation volumes, etc. MARAD envisions that additional environmental analyses of the federal aspects of future project and service development along designated AMH routes will be necessary. Those future analyses may use this PEA as a starting point, to analyze the specific environmental impacts of each particular proposal.

Public Participation

We encourage you to participate by submitting comments and related materials. All comments received will be posted without change to http://www.regulations.gov and will include any personal information you have provided.

A. Submitting comments

All submissions must be written in English and include the agency name and docket number for this rulemaking (MARAD-2012-0015), and should provide support for each suggestion or recommendation. You may submit your comments and material online via http://www.regulations.gov or by email, fax, mail, or hand delivery, but please use only one of these means for your submission. If you submit a comment online via www.regulations.gov or email, it will be considered received by MARAD when it posts to the www.regulations.gov Web site. (Please Note: Comments submitted to www.regulations.gov or via email are not immediately posted to the Web site. It may take several business days before your comments will be posted on the electronic docket.) If you fax, hand deliver, or mail your comment, it will be considered as having been received by MARAD when it is received at the Docket Management Facility. We recommend that you include your name and a mailing address, an email address, or a telephone number in the body of your document so that we can contact you if we have questions regarding your submission.

To submit your comment online, go to http://www.regulations.gov, type the docket number (MARAD-2012-0015) in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period.

B. Viewing Comments and Documents

To view comments, go to http://www.regulations.gov, type the docket number “MARAD-2012-0015” in the “SEARCH” box and click “Search.” Click and Open the Docket Folder on the line associated with this rulemaking. You may also visit the Docket Management Facility in Room W12-140 on the ground floor of the Department of Transportation West Building, 1200 New Jersey Avenue SE., Washington, DC 20590, between 9 a.m. and 5 p.m., Monday through Friday, except Federal holidays.

The draft PEA will be posted by MARAD to the electronic docket at www.regulations.gov and may be accessed using the same search as described above. You may also view the draft PEA by visiting MARAD's Marine Highway Web page at http://www.marad.dot.gov/ships_shipping_landing_page/mhi_home/mhi_home.htm and clicking on “Draft Programmatic Environmental Assessment.”

Please note that even after the comment period has closed, MARAD will continue to file relevant information in the Docket as it becomes available. Accordingly, MARAD recommends that you periodically check the Docket for new material.

C. Privacy Act

Anyone is able to search the electronic form of all comments received into any of our dockets by the name of the individual submitting the comment (or signing the comment, if submitted on behalf of an association, business, labor union, etc.). You may review the DOT Privacy Act system of records notice for the Federal Docket Management System (FDMS) in the Federal Register published on January 17, 2008, (73 FR 3316) at http://edocket.access.gpo.gov/2008/pdf/E8-785.pdf.

Authority: 49 CFR 1.92 and 1.93.

* * * * *

By Order of the Maritime Administrator.
Dated: July 8, 2014.
Thomas M. Hudson,
Secretary, Maritime Administration.

[FR Doc. 2014-16298 Filed 7-11-14; 8:45 am]

BILLING CODE 4910-81-P